DEPARTMENT OF HEALTH AND HUMAN SERVICES

Centers for Disease Control and Prevention

Reorganization of the Office of Safety, Security and Asset Management

AGENCY: Centers for Disease Control and Prevention (CDC), the Department of Health and Human Services (HHS).

ACTION: Notice.

SUMMARY: CDC has modified its structure. This notice announces the reorganization of the Office of Safety, Security and Asset Management (OSSAM). OSSAM retitled a component.

DATES: This reorganization of OSSAM was approved by the Director of CDC on March 12, 2024 and became effective.

FOR FURTHER INFORMATION CONTACT: Geoff Crider, Office of Safety, Security, and Asset Management, Office of the Chief Operating Officer, Office of the Director, Centers for Disease Control and Prevention, 1600 Clifton Road NE, MS H20-2, Atlanta, GA 30329. Telephone 404-718-5367; Email: ossam@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 89 FR 16579-16580, dated March 7, 2024) is amended to reflect the reorganization of Office of Safety, Security and Asset Management within the Office of the Chief Operating Officer, Centers for Disease Control and Prevention. Specifically, the changes are as follows:

I. Under Part C, Section C-B, Organization and Functions, retitle the following organizational units:

• Quality and Compliance Branch to the Global Safety and Performance Branch (CAJSCB)

Delegations of Authority

All delegations and redelegations of authority made to officials and employees of affected organizational components will continue in them or their successors pending further redelegation, provided they are consistent with this reorganization.

(Authority: 44 U.S.C. 3101)

Dia Taylor,
Deputy Chief Operating Officer, Centers for Disease Control and Prevention.

[FR Doc. 2024-05866 Filed 3-19-24; 8:45 am]

BILLING CODE 4163-18-P